DEPARTMENT OF ENERGY

Federal Energy Regulatory Commission

[Project No. 2146-140]

Alabama Power Company; Notice of Application Accepted for Filing, Soliciting Comments, Motions to Intervene, And Protests

Take notice that the following hydroelectric application has been filed with the Commission and is available for public inspection:

a. Application Type: Non-project use of project lands and waters.

b. Project No: 2146-140.

c. Date Filed: April 16, 2013.

d. Applicant: Alabama Power Company.

e. Name of Project: Coosa River Hydroelectric Project.

f. Location: Coosa River near the city of Gadsden, in Etowah County, in northeastern Alabama.

g. Filed Pursuant to: Federal Power Act, 16 U.S.C .791a-825r.

h. Applicant Contact: Ms. Amy J. Stewart, PE, Team Leader, Alabama Power Company, 600 18th Street North, Birmingham, AL 35203-8180, (205) 257-1000.

i. FERC Contact: Mary Karwoski, (202) 502-6543, or email: mary.karwoski@ferc.gov.

j. Deadline for filing comments, motions to intervene, and protests: July 8, 2013.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments. Please include the project number (P-2146-140) on any comments or motions filed.

k. Description of Application: Alabama Power Company requests Commission approval to grant River Country Campground a permit to use project lands and waters to construct two forty-foot fishing piers with no cleats and a pier with twelve boat slips accommodating up to fifty watercraft. The proposed boat slips are each 22 feet wide by 24 feet long and can accommodate up to four personal watercraft (including but not limited to jet-skis), plus two watercraft on the end. River Country Campground operates an existing RV Campground on the Neely-Henry Development in Gadsden, Alabama. The facility currently includes a single lane boat ramp, a courtesy dock accommodating up to six watercraft, three wooden docks with no cleats, rip-rap along the shoreline, and two water intake structures for irrigation.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-2146) to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervener must be accompanied by proof of service on all persons listed in the service list prepared by the Commission in this proceeding, in accordance with 18 CFR 385.2010.

Dated: June 4, 2013.
Kimberly D. Bose,
Secretary.

[FR Doc. 2013-13812 Filed 6-10-13; 8:45 am]

BILLING CODE 6717-01-P